DEPARTMENT OF COMMERCE

National Oceanic and Atmospheric Administration

[I.D. 062804B]

Pacific Fishery Management Council; Public Meeting

AGENCY: National Marine Fisheries Service (NMFS), National Oceanic and Atmospheric Administration (NOAA), Commerce.

ACTION: Notice of public meeting.

SUMMARY: The Pacific Fishery Management Council's (Council) Marine Reserves Subcommittee of the Scientific and Statistical Committee (SSC) will hold a meeting, which is open to the public.

DATES: The Marine Reserves Subcommittee of the SSC will meet Monday, July 19, 2004, from 1 p.m. to 5 p.m., and Tuesday, July 20, 2004, from 8 a.m. until business for the day is completed.

ADDRESSES: The meeting will be held at NMFS Southwest Fisheries Science Center, Santa Cruz Laboratory, 110 Shaffer Road, Santa Cruz, CA 95060; telephone: (831) 420-3900.

Council address: Pacific Fishery Management Council, 7700 NE Ambassador Place, Suite 200, Portland, OR 97220-1384.

FOR FURTHER INFORMATION CONTACT: Mr. Dan Waldeck, Pacific Fishery Management Council; telephone: (503) 820-2280 or toll free (866) 806-7204.

SUPPLEMENTARY INFORMATION: The purpose of the meeting is to review the Staff Preliminary Working Draft Document for Consideration of a Network of Marine Reserves and Marine Conservation Areas within the Channel Islands National Marine Sanctuary (CINMS). Specifically, the Marine Reserves Subcommittee will review the purpose and need for action, a preliminary range of alternatives, and the analytical approaches for proposed management alternatives to establish marine reserves and marine conservation areas in CINMS. CINMS and NOAA staff involved with the development of the document will be available for discussions with the Marine Reserves Subcommittee.

The Marine Reserves Subcommittee will provide the results of their review to the Council's Ad Hoc Channel Islands Marine Reserve Committee for their meeting in fall 2004. The draft CINMS document can be found at— http://www.cinms.nos.noaa.gov/marineres/enviro_review.html

Although non-emergency issues not contained in the meeting agenda may come before the Subcommittee for discussion, those issues may not be the subject of formal Marine Reserves Subcommittee action during this meeting. Subcommittee action will be restricted to those issues specifically listed in this notice and any issues arising after publication of this notice that require emergency action under section 305(c) of the Magnuson-Stevens Act, provided the public has been notified of the Subcommittee's intent to take final action to address the emergency.

Special Accommodations

The meeting is physically accessible to people with disabilities. Requests for sign language interpretation or other auxiliary aids should be directed to Ms. Carolyn Porter at (503) 820-2280 or toll free (866) 806-7204 at least 5 days prior to the meeting date.

Dated: June 29, 2004.
Alan D. Risenhoover,
Acting Director, Office of Sustainable Fisheries, National Marine Fisheries Service.

[FR Doc. E4-1470 Filed 7-1-04; 8:45 am]

BILLING CODE 3510-22-S